DEPARTMENT OF JUSTICE

Office of Justice Programs

[OJP (OJJDP) Docket No. 1490]

Meeting of the Federal Advisory Committee on Juvenile Justice

AGENCY: Office of Juvenile Justice and Delinquency Prevention, Office of Justice Programs, Justice.

ACTION: Notice of Meeting.

SUMMARY: The Office of Juvenile Justice and Delinquency Prevention (OJJDP) is announcing the fall meeting of the Federal Advisory Committee on Juvenile Justice (FACJJ), which will be held in San Diego, CA October 19-21, 2008.

Dates and Locations: The meeting will be held at the Courtyard Marriot San Diego-Old Town, 2345 Jefferson Street, San Diego, CA 92110 at the following times: Sunday, October 19, 2008, 4 to 5:15 p.m,; Monday, October 20, 2008, 8:30 a.m. to 12:15 p.m. and 1:45 to 5:30 p.m; and Tuesday, October 20, 2008; 8 to 11 a.m.. The meeting is open to the public. On Sunday, October 19th, there will be a meeting of the FACJJ steering sub-committee from 5:30 to 8 p.m. that will be open to the public. However, the FACJJ sub-committee and work group meetings scheduled for Sunday, October 19, 2008 from 3 to 4 p.m. and on Monday, October 20, 2008 from 12:15 p.m. to 1:45 p.m are closed to the public.

FOR FURTHER INFORMATION CONTACT: Robin Delany-Shabazz, Designated Federal Official, OJJDP, Robin.Delany-Shabazz@usdoj.gov, or 202-307-9963. [Note: This is not a toll-free number.]

SUPPLEMENTARY INFORMATION: The Federal Advisory Committee on Juvenile Justice (FACJJ), established pursuant to Section 3(2)A of the Federal Advisory Committee Act (5 U.S.C. App.2) will meet to carry out its advisory functions under Section 223(f)(2)(C-E) of the Juvenile Justice and Delinquency Prevention Act of 2002. The FACJJ is composed of one representative from each state and territory. FACJJ duties include: Reviewing Federal policies regarding juvenile justice and delinquency prevention; advising the OJJDP Administrator with respect to particular functions and aspects of OJJDP; and advising the President and Congress with regard to State perspectives on the operation of OJJDP and Federal legislation pertaining to juvenile justice and delinquency prevention. More information, including a member list, may be found at http://www.facjj.org.

For security purposes, members of the public who wish to attend open sessions should register online at http://www.facjj.org. Should problems arise with web registration, call Daryel Dunston at 240-221-4343. [Note: this is not a toll-free telephone number.] Notification of intent to attend should be sent by October 14, 2008. Note: Photo identification will be required for admission. Additional identification documents may be required.

Agenda

1. Sunday, October 19, 2008.

• 3 p.m.-4 p.m. Meetings of Planning Sub Committee and Annual Report Sub Committee Work Groups (Closed Meetings);

• 4 p.m.-5:15 p.m. Call to Order of FACJJ, Preview of the Agenda; Remarks of OJJDP Administrator, Overview of the 2009 Report Drafts, Small Group Assignments; and Close. (Open Session);

• 5:30 p.m.-8 p.m. Meeting of the Steering Sub Committee. (Open Meeting);

2. Monday, October 20, 2008.

• 8:30 a.m.-12:15 p.m. Call to Order; Steering Sub Committee Report Out; Discussion of the Summary Report of Responses to the FACJJ 2008 Request for Information, Instructions for Review of Report Draft Discussion; Review of Report Draft in Work Groups; and Statements from Nominees for Officers and Elections. (Open Session);

• 12:15 p.m-1:45 p.m. Working Lunch/Sub Committee Meetings (Closed Session);

• 1:45 p.m.-5:30 p.m. Sub Committee Report Outs; Further Review and Discussion of 2009 Annual Report Draft in Work Groups, Report Outs, Next Steps, and Close. (Open Session);

3. Tuesday, April 8, 2008.

• 8 a.m.-11 a.m. Call to Order; Completion of Discussion of Reports; Presentation and Discussion, “Developing DMC Action Plans”; Summary and Adjournment. (Open Session).

For security purposes, members of the FACJJ and of the public who wish to attend, must pre-register online at http://www.facjj.org no later than Tuesday, October 14, 2008. Should problems arise with web registration, call Daryel Dunston at 240-221-4343. [Note: these are not toll-free telephone numbers.]

Written Comments

Interested parties may submit written comments by Tuesday, October 14, 2008, to Robin Delany-Shabazz, Designated Federal Official, OJJDP, at Robin.Delany-Shabazz@usdoj.gov or by fax to 202-354-4063.[Note: These are not toll-free numbers.] No oral presentations will be permitted, however, written questions and comments from attending members of the public may be invited.

Dated: September 30, 2008.
J. Robert Flores,
Administrator, Office of Juvenile Justice and Delinquency Prevention.

[FR Doc. E8-23531 Filed 10-3-08; 8:45 am]

BILLING CODE 4410-18-P